DEPARTMENT OF THE TREASURY

Office of Foreign Assets Control

31 CFR Part 560

Publication of Iranian Transactions and Sanctions Regulations Web General License P

AGENCY: Office of Foreign Assets Control, Treasury.

ACTION: Publication of web general license.

SUMMARY: The Department of the Treasury's Office of Foreign Assets Control (OFAC) is publishing a general license (GL) issued pursuant to the Iranian Transactions and Sanctions Regulations and an Iran-related Executive order: GL P, which was previously made available on OFAC's website.

DATES: GL P was issued on June 2, 2023. See SUPPLEMENTARY INFORMATION for additional relevant dates.

FOR FURTHER INFORMATION CONTACT: OFAC: Assistant Director for Licensing, 202-622-2480; Assistant Director for Regulatory Affairs, 202-622-4855; or Assistant Director for Compliance, 202-622-2490.

SUPPLEMENTARY INFORMATION:

Electronic Availability

This document and additional information concerning OFAC are available on OFAC's website: https://ofac.treasury.gov.

Background

On June 2, 2023, OFAC issued GL P to authorize certain transactions otherwise prohibited by the Iranian Transactions and Sanctions Regulations, 31 CFR part 560, or Executive Order 13846 of August 6, 2018, “Reimposing Certain Sanctions With Respect to Iran” (83 FR 38939, August 7, 2018). GL P was made available on OFAC's website (https://ofac.treasury.gov) when it was issued. GL P has an expiration date of July 6, 2023. The text of this GL is provided below.

OFFICE OF FOREIGN ASSETS CONTROL

Executive Order 13846 of August 6, 2018

Reimposing Certain Sanctions With Respect to Iran

Iranian Transactions and Sanctions Regulations

31 CFR Part 560

GENERAL LICENSE P

Authorizing the Wind Down of Transactions Involving Navyan Abr Arvan Private Limited Company or Arvancloud Global Technologies L.L.C.

(a) Except as provided in paragraph (b) of this general license, all transactions ordinarily incident and necessary to the wind down of any transaction involving Navyan Abr Arvan Private Limited Company or Arvancloud Global Technologies L.L.C. that are prohibited by the Iranian Transactions and Sanctions Regulations, 31 CFR part 560 (ITSR), or Executive Order (E.O.) 13846 of August 6, 2018, are authorized through 12:01 a.m. eastern daylight time, July 6, 2023, provided that any payment to a blocked person must be made into a blocked account in accordance with the ITSR.

(b) This general license does not authorize any transactions otherwise prohibited by the ITSR or E.O. 13846, including transactions involving any person blocked pursuant to the ITSR or E.O. 13846 other than the blocked persons described in paragraph (a) of this general license, unless separately authorized.

Andrea M. Gacki,

Director, Office of Foreign Assets Control.

Dated: June 2, 2023.

Andrea M. Gacki,
Director, Office of Foreign Assets Control.

[FR Doc. 2023-15368 Filed 7-19-23; 8:45 am]

BILLING CODE 4810-AL-P